DEPARTMENT OF STATE

[Public Notice 5006]

RIN 1400-AA-88

Department of State Selection of Accrediting Entities Under the Intercountry Adoption Act of 2000

AGENCY: Department of State

ACTION: Notice

SUMMARY: The Department of State (the Department) is the lead Federal agency for implementation of the 1993 Hague Convention on Protection of Children and Co-operation in Respect of Intercountry Adoption (the Convention) and the Intercountry Adoption Act of 2000 (the IAA). Among other things, the IAA gives the Secretary of State responsibility for the accreditation of agencies and approval of persons to provide adoption services under the Convention. The IAA requires the Department to enter into agreements with one or more qualified entities under which such entities will perform the task of accrediting or approving agencies and persons. This notice is to inform the public that the Department will be conducting meetings with potential accrediting entities in order to reach agreements with those that are qualified to be designated as IAA accrediting entities. The agreements will set forth how the accrediting entities will perform their functions under the IAA. The final agreements will be published in the Federal Register.

FOR FURTHER INFORMATION CONTACT: Lisa Vogel at 202-736-9108. Hearing or speech-impaired persons may use the Telecommunications Devices for the Deaf (TDD) by contacting the Federal Information Relay Service at 1-800-877-8339.

SUPPLEMENTARY INFORMATION: The Department, pursuant to section 202(a) of the IAA, must enter into at least one agreement to designate an accrediting entity. Accrediting entities may be: (1) Nonprofit private entities with expertise in developing and administering standards for entities providing child welfare services; or (2) State adoption licensing bodies that have expertise in developing and administering standards for entities providing child welfare services and that accredit only agencies located in that State. Five potential State licensing bodies (Colorado, Connecticut, New Mexico, Utah, and Vermont) and one potential nonprofit accrediting entity (Council on Accreditation) have submitted statements of interest indicating that they may be eligible and may wish to be designated as accrediting entities under the IAA. The Department now intends to begin meeting with these potential accrediting entities to develop agreements. The agreements will set forth how the accrediting entities will perform their functions under the IAA and how the Department will oversee their performance of such functions, and will address related matters such as the fees that an accrediting entity may charge agencies and persons for accreditation/approval services.

These meetings with potential accrediting entities will be open only to the eligible applicants. They will focus on the development of agreements. No agreements will be signed or published in the Federal Register until the Department has issued a final rule on the accreditation and approval of agencies and persons, for which a proposed rule (for 22 CFR part 96) was published in the Federal Register (68 FR 54064, September 15, 2003). The public comment period for that proposed rule is now closed. Post-comment period comments on the rule are discouraged. If the planned meetings to develop agreements result in the Department receiving additional comments from a potential accrediting entity, however, the Department will consider their possible addition to the public file. Interested persons are free to check the public file on an ongoing basis for such comments. The Department is not required to consider comments provided to it after the comment period has closed, and is making no commitment to do so; any addition of comments to the public file is intended to promote the transparency of the regulatory process.

Public comments and supporting materials submitted in connection with the proposed rule are available for viewing and copying at: U.S. Department of State, SA-29, 2100 Pennsylvania Avenue NW., Washington, DC 20520. To review docket materials, members of the public must make an appointment by calling Delilia Gibson-Martin at 202-736-9105. The public may copy a maximum of 100 pages at no charge. Additional copies cost $0.25 per page. The Department has also posted public comments at: http://travel.state.gov.

Dated: March 1, 2005.
Daniel B. Smith,
Acting, Assistant Secretary for Consular Affairs, Department of State.

[FR Doc. 05-4461 Filed 3-7-05; 8:45 am]

BILLING CODE 4710-06-P